DEPARTMENT OF THE INTERIOR

Bureau of Land Management

[LLMT926000-L19100000-BJ0000-LRCME1G04814]

Notice of Filing of Plats of Survey; South Dakota

AGENCY: Bureau of Land Management, Interior.

ACTION: Notice of filing of plats of survey.

SUMMARY: The Bureau of Land Management (BLM) will file the plat of survey of the lands described below in the BLM Montana State Office, Billings, Montana, on May 16, 2012.

DATES: Protests of the survey must be filed before May 16, 2012 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009, Marvin_Montoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Regional Director, Great Plains Region, Bureau of Indian Affairs, Aberdeen, South Dakota, and was necessary to determine individual and tribal trust lands. The lands we surveyed are:

5th Principal Meridian, South Dakota

T.123 N., R. 53 W.

The plat, in two sheets, representing the dependent resurvey of a portion of the subdivisional lines and a portion of the subdivision of section 23, and the subdivision of section 23, and the supplemental plat creating Parcel A from the remainder of former Lot 7 of section 23, Township 123 North, Range 53 West, Fifth Principal Meridian, South Dakota, was accepted April 4, 2012.

We will place a copy of the plat, in two sheets, we described in the open files. They will be available to the public as a matter of information. If the BLM receives a protest against this survey, as shown on this plat, in two sheets, prior to the date of the official filing, we will stay the filing pending our consideration of the protest. We will not officially file this plat, in two sheets, until the day after we have accepted or dismissed all protests and they have become final, including decisions or appeals.

Authority: 43 U.S.C. Chap. 3.

James D. Claflin,
Chief Cadastral Surveyor, Division of Resources.

[FR Doc. 2012-9028 Filed 4-13-12; 8:45 am]

BILLING CODE 4310-DN-P